DEPARTMENT OF ENERGY

Federal Energy Regulatory Commission

Combined Notice of Filings #1

Take notice that the Commission received the following electric rate filings:

Docket Numbers: ER10-3058-001; ER10-3059-001; ER10-3066-001; ER10-3065-001.

Applicants: Pinelawn Power, LLC, Equus Power I, L.P., Edgewood Energy LLC, Shoreham Energy, LLC.

Description: J-Power North America Holdings Co. Ltd, Triennial Market Power Update for the Northeast Region.

Filed Date: 06/27/2011.

Accession Number: 20110627-5139.

Comment Date: 5 p.m. Eastern Time on Friday, August 26, 2011.

Docket Numbers: ER11-2528-002.

Applicants: Southwest Power Pool, Inc.

Description: Southwest Power Pool, Inc. submits tariff filing per 35: Compliance Filing—ER11-2528 (North Buffalo Wind, LLC GIA) to be effective 12/10/2010.

Filed Date: 06/27/2011.

Accession Number: 20110627-5093.

Comment Date: 5 p.m. Eastern Time on Monday, July 18, 2011.

Docket Numbers: ER11-3888-000.

Applicants: Midwest Independent Transmission System Operator, Inc.

Description: Midwest Independent Transmission System Operator, Inc. submits tariff filing per 35.13(a)(2)(iii): City of Columbia Amended IA to be effective 6/1/2011.

Filed Date: 06/27/2011.

Accession Number: 20110627-5036.

Comment Date: 5 p.m. Eastern Time on Monday, July 18, 2011.

Docket Numbers: ER11-3889-000.

Applicants: PJM Interconnection, LLC.

Description: PJM Interconnection, LLC submits tariff filing per 35.13(a)(2)(iii): U2-077 & W1-001 Interim ISA, Original Service Agreement No. 2952 to be effective 5/26/2011.

Filed Date: 06/27/2011.

Accession Number: 20110627-5041.

Comment Date: 5 p.m. Eastern Time on Monday, July 18, 2011.

Docket Numbers: ER11-3890-000.

Applicants: PJM Interconnection, LLC.

Description: PJM Interconnection, LLC submits tariff filing per 35.13(a)(2)(iii): Queue No. W4-074; Original Service Agreement No. 2949 to be effective 5/26/2011.

Filed Date: 06/27/2011.

Accession Number: 20110627-5056.

Comment Date: 5 p.m. Eastern Time on Monday, July 18, 2011.

Docket Numbers: ER11-3892-000.

Applicants: Consumers Energy Company.

Description: Consumers Energy Company submits tariff filing per 35.12: Facilities Agreement with the Michigan Power Limited Partnership, Rate Schedule to be effective 8/26/2011.

Filed Date: 06/27/2011.

Accession Number: 20110627-5098.

Comment Date: 5 p.m. Eastern Time on Monday, July 18, 2011.

Docket Numbers: ER11-3893-000.

Applicants: PJM Interconnection, LLC.

Description: PJM Interconnection, LLC submits tariff filing per 35.13(a)(2)(iii): Queue Position T126; Original Service Agreement No. 2950 to be effective 5/26/2011.

Filed Date: 06/27/2011.

Accession Number: 20110627-5100.

Comment Date: 5 p.m. Eastern Time on Monday, July 18, 2011.

Docket Numbers: ER11-3894-000.

Applicants: Fowler Ridge II Wind Farm LLC.

Description: Fowler Ridge II Wind Farm LLC submits tariff filing per 35.15: Compliance Filing, Docket No. ER09-1650-001 and OA09-32-001 to be effective 6/27/2011.

Filed Date: 06/27/2011.

Accession Number: 20110627-5101.

Comment Date: 5 p.m. Eastern Time on Monday, July 18, 2011.

Docket Numbers: ER11-3895-000.

Applicants: Fowler Ridge II Wind Farm LLC.

Description: Fowler Ridge II Wind Farm LLC submits tariff filing per 35.1: Compliance Filing, Docket No. ER09-1650-001 and OA09-32-001 to be effective 8/18/2010.

Filed Date: 06/27/2011.

Accession Number: 20110627-5102.

Comment Date: 5 p.m. Eastern Time on Monday, July 18, 2011.

Docket Numbers: ER11-3896-000.

Applicants: PJM Interconnection, LLC.

Description: PJM Interconnection, LLC submits tariff filing per 35.13(a)(2)(iii): Queue Position T127; Original Service Agreement No. 2951 to be effective 5/26/2011.

Filed Date: 06/27/2011.

Accession Number: 20110627-5125.

Comment Date: 5 p.m. Eastern Time on Monday, July 18, 2011.

Docket Numbers: ER11-3897-000.

Applicants: PJM Interconnection, LLC.

Description: PJM Interconnection, LLC submits tariff filing per 35.15: Notice of Cancellation of Service Agreement 2862 in Docket No. ER11-3513-000 to be effective 5/26/2011.

Filed Date: 06/27/2011.

Accession Number: 20110627-5126.

Comment Date: 5 p.m. Eastern Time on Monday, July 18, 2011.

Docket Numbers: ER11-3898-000.

Applicants: The Cleveland Electric Illuminating Company.

Description: The Cleveland Electric Illuminating Company submits tariff filing per 35: Revised Market-Based Rate Power Sales Tariff to be effective 6/29/2011.

Filed Date: 06/28/2011.

Accession Number: 20110628-5020.

Comment Date: 5 p.m. Eastern Time on Tuesday, July 19, 2011.

Docket Numbers: ER11-3899-000.

Applicants: FirstEnergy Generation Mansfield Unit 1 Corp.

Description: FirstEnergy Generation Mansfield Unit 1 Corp. submits tariff filing per 35: Revised Market-Based Rate Power Sales Tariff to be effective 6/29/2011.

Filed Date: 06/28/2011.

Accession Number: 20110628-5021.

Comment Date: 5 p.m. Eastern Time on Tuesday, July 19, 2011.

Docket Numbers: ER11-3900-000.

Applicants: FirstEnergy Generation Corp.

Description: FirstEnergy Generation Corp. submits tariff filing per 35: Revised Market-Based Power Sales Tariff to be effective 6/29/2011.

Filed Date: 06/28/2011.

Accession Number: 20110628-5022.

Comment Date: 5 p.m. Eastern Time on Tuesday, July 19, 2011.

Docket Numbers: ER11-3901-000.

Applicants: FirstEnergy Nuclear Generation Corp.

Description: FirstEnergy Nuclear Generation Corp. submits tariff filing per 35: Revised Market-Based Rate Power Sales Tariff to be effective 6/29/2011.

Filed Date: 06/28/2011.

Accession Number: 20110628-5023.

Comment Date: 5 p.m. Eastern Time on Tuesday, July 19, 2011.

Docket Numbers: ER11-3902-000.

Applicants: Jersey Central Power & Light.

Description: Jersey Central Power & Light submits tariff filing per 35: Revised Market-Based Rate Power Sales Tariff to be effective 6/29/2011.

Filed Date: 06/28/2011.

Accession Number: 20110628-5024.

Comment Date: 5 p.m. Eastern Time on Tuesday, July 19, 2011.

Docket Numbers: ER11-3903-000.

Applicants: FirstEnergy Solutions Corp.

Description: FirstEnergy Solutions Corp. submits tariff filing per 35: Revised Market-Based Rate Power Sales Tariff to be effective 6/29/2011.

Filed Date: 06/28/2011.

Accession Number: 20110628-5025.

Comment Date: 5 p.m. Eastern Time on Tuesday, July 19, 2011.

Docket Numbers: ER11-3904-000.

Applicants: PJM Interconnection, LLC.

Description: PJM Interconnection, LLC submits Notice of Cancellation of the interim interconnection service agreement with Meadow Lake Wind Farm II LLC and Meadow Lake Wind Farm III LLC et al.

Filed Date: 06/27/2011.

Accession Number: 20110627-5153.

Comment Date: 5 p.m. Eastern Time on Monday, July 18, 2011.

Docket Numbers: ER11-3905-000.

Applicants: PJM Interconnection, LLC.

Description: Notice of Cancellation of PJM Interconnection, LLC.

Filed Date: 06/27/2011.

Accession Number: 20110627-5154.

Comment Date: 5 p.m. Eastern Time on Monday, July 18, 2011.

Docket Numbers: ER11-3906-000.

Applicants: Ohio Edison Company.

Description: Ohio Edison Company submits tariff filing per 35: Revised Market-Based Rate Power Sales Tariff to be effective 6/29/2011.

Filed Date: 06/28/2011.

Accession Number: 20110628-5045.

Comment Date: 5 p.m. Eastern Time on Tuesday, July 19, 2011.

Docket Numbers: ER11-3907-000.

Applicants: The Toledo Edison Company.

Description: The Toledo Edison Company submits tariff filing per 35: Revised Toledo MBR Power Sales Tariff to be effective 6/29/2011.

Filed Date: 06/28/2011.

Accession Number: 20110628-5047.

Comment Date: 5 p.m. Eastern Time on Tuesday, July 19, 2011.

Docket Numbers: ER11-3908-000.

Applicants: Pennsylvania Power Company.

Description: Pennsylvania Power Company submits tariff filing per 35: Revised Market-Based Rate Power Sales Tariff to be effective 6/29/2011.

Filed Date: 06/28/2011.

Accession Number: 20110628-5048.

Comment Date: 5 p.m. Eastern Time on Tuesday, July 19, 2011.

Docket Numbers: ER11-3909-000.

Applicants: Metropolitan Edison Company.

Description: Metropolitan Edison Company submits tariff filing per 35: Revised Market-Based Rate Power Sales Tariff to be effective 6/29/2011.

Filed Date: 06/28/2011.

Accession Number: 20110628-5049.

Comment Date: 5 p.m. Eastern Time on Tuesday, July 19, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: June 28, 2011.
Nathaniel J. Davis, Sr.,
Deputy Secretary.

[FR Doc. 2011-16712 Filed 7-1-11; 8:45 am]

BILLING CODE 6717-01-P